EXPORT-IMPORT BANK OF THE U.S.

[Public Notice 2011-0008]

Agency Information Collection Activities: Comment Request

AGENCY: Export-Import Bank of the U.S.

ACTION: Submission for OMB Review and Comments Request. Form Title: Notice of Claim and Proof of Loss, Export Credit Insurance policies.

SUMMARY: The Export-Import Bank of the United States (“Ex-Im Bank”) is the official export credit agency of the United States. Its mission is to create and sustain U.S. jobs by financing U.S. exports through direct loans, guarantees, insurance and working capital credits. By neutralizing the effect of export credit support offered by foreign governments and by absorbing credit risks that the private sector will not accept, Ex-Im Bank enables U.S. exporters to compete fairly in foreign markets on the basis of price and product. Under the Export Credit Insurance policies, coverage is provided for export sales to one or many different buyers.

In the event that a buyer defaults on a transaction insured by Ex-Im Bank the insured exporter or lender may seek payment by the submission of a claim. This collection of information is necessary, pursuant to 12 U.S.C. 635(a)(1), to determine if such claim complies with the terms and conditions of the relevant insurance policy.

This form can be reviewed at http://www.exim.gov/pub/pending/EIB10_03.pdf.

DATES: Comments should be received on or before (insert 30 days after publication) to be assured of consideration.

ADDRESSES: Comments may be submitted electronically on http://www.regulations.gov or by mail to: Office of Information and Regulatory Affairs, 725 17th Street, NW., Washington, DC 20038 attn: OMB 3048—NEW.

SUPPLEMENTARY INFORMATION:

Titles and Form Number: Notice of Claim and Proof of Loss, Export Credit Insurance policies (EIB 10-03).

OMB Number: 3048-XXXX.

Type of Review: New.

Need and Use: This collection provides Ex-Im Bank staff with the information necessary to process the filing of a claim for a defaulted transaction under Ex-Im Bank's Export Credit Insurance program.

Number of respondents: 300.

Sharon A. Whitt,
Agency Clearance Officer.

[FR Doc. 2011-2039 Filed 1-28-11; 8:45 am]

BILLING CODE 6690-01-P